DEPARTMENT OF STATE

[Public Notice: 6795]

30-Day Notice of Proposed Information Collection: DS-2029, Application for Consular Report of Birth Abroad of a Citizen of the United States of America, OMB Control No. 1405-0011

ACTION: Notice of request for public comment and submission to OMB of proposed collection of information.

SUMMARY: The Department of State has submitted the following information collection request to the Office of Management and Budget (OMB) for approval in accordance with the Paperwork Reduction Act of 1995.

• Title of Information Collection: Application for Consular Report of Birth Abroad of a Citizen of the United States of America.

• OMB Control Number: 1405-0011.

• Type of Request: Revision.

• Originating Office: Bureau of Consular Affairs, Overseas Citizens Services (CA/OCS).

• Form Number: DS-2029.

• Respondents: Parents or legal guardians of United States citizen children born overseas.

• Estimated Number of Respondents: 64,374.

• Estimated Number of Responses: 64,374.

• Average Hours per Response: 20 minutes.

• Total Estimated Burden: 21,458 hours.

• Frequency: On Occasion.

• Obligation to Respond: Voluntary.

DATE(S): Submit comments to the Office of Management and Budget (OMB) for up to 30 days from October 27, 2009.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A. Rivers, Bureau of Consular Affairs, Overseas Citizens Services (CA/OCS/PRI), U.S. Department of State, SA-29, 4th Floor, Washington, DC 20520, who may be reached at (202) 736-9082 or ASKPRI@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:The DS-2029, Application for Consular Report of Birth Abroad of a Citizen of the United States of America, is used by parents or legal guardians who claim to have a U.S. citizen child born while abroad. The information collected on this form will be used to certify the acquisition of U.S. citizenship at birth of a person born abroad.

Methodology: The DS-2029 is available to download from the Internet. An application for a Consular Report of Birth is normally made in the consular district in which the birth occurred. The parent or guardian respondent will complete the form and present it to a United States Consulate or Embassy, which will examine the documentation, determine whether it is appropriate to issue such Report and enter the information provided into the Department of State American Citizen Services (ACS) electronic database.

Dated: August 28, 2009.
Mary Ellen Hickey,
Managing Director, Bureau of Consular Affairs, Department of State.

[FR Doc. E9-25822 Filed 10-26-09; 8:45 am]

BILLING CODE 4710-06-P